DEPARTMENT OF TRANSPORTATION

Federal Highway Administration

[Docket No. FHWA-2000-7601]

Notice of Request for Clearance of a New Information Collection: Design/Build Research Study

AGENCY: Federal Highway Administration (FHWA), DOT.

ACTION: Notice and request for comments.

SUMMARY: In accordance with the requirements of section 3506(c)(2)(A) of the Paperwork Reduction Act of 1995, this notice announces the intention of the FHWA to request the Office of Management and Budget's (OMB) approval for a new information collection involving responses to a questionnaire concerning design/build projects. The information to be collected will be used to analyze the affected public's perception of safety related issues and impacts on private property that may be attributed directly to design/build projects. This information is necessary to address certain details and provide feedback to the FHWA's evaluation of right-of-way acquisition and relocation on design/build projects.

DATES: Comments must be submitted on or before September 12, 2000.

ADDRESSES: All signed, written comments should refer to the docket number that appears in the heading of this document and must be submitted to the Docket Clerk, U.S. DOT Dockets, Room PL-401, 400 Seventh Street, SW., Washington, DC 20590-0001. All comments received will be available for examination at the above address between 10:00 a.m. and 5:00 p.m., e.t., Monday through Friday, except Federal holidays. Those desiring notification of receipt of comments must include a self-addressed stamped envelope or postcard.

FOR FURTHER INFORMATION CONTACT: Mr. David Walterscheid, (202) 366-9901, Office of Real Estate Services, Federal Highway Administration, Department of Transportation, 400 Seventh Street, SW., Washington, DC 20590. Office hours are from 7:30 a.m. to 5:00 p.m., e.t., Monday through Friday, except Federal holidays.

SUPPLEMENTARY INFORMATION: Title: Design/Build Research Study.

Background: The Transportation Equity Act for the 21st Century (TEA-21), section 1307, prescribes the interim provisions under which projects can be advanced utilizing design/build contracting procedures. TEA-21 mandates that regulations will be developed to carry out the amendments made by section 1307. The regulations will identify the criteria to be used by the Secretary of Transportation in approving the use of and establishing the procedures for design/build contracting by a State transportation department or a local transportation agency. With the increased funding available under TEA-21, States are expected to increase their use of design/build contracting to advance projects. One unique aspect of design/build contracting is that it authorizes construction at the time the project agreement is signed. This allows the contractor to begin construction on a parcel of land as soon as it is acquired. This process could lead to safety concerns and possible coercive actions for vacant landowners, homeowners and/or businesses that await acquisition of, or relocation from, their property for right-of-way purposes. Several design/build projects that included right-of-way acquisition activities have been identified. These projects are located in California, South Carolina and Virginia. The FHWA's Office of Real Estate Services in conjunction with South Carolina State University will conduct a survey of approximately 100 property owners, residents, business owners and various contractors involved in a design/build project to ascertain their perceptions of possible safety related issues or coercive actions that may have affected them. The information will be collected by telephone/written surveys, personal interviews and/or site visits. The information gathered from the survey will be used by the Office of Real Estate Services to assist in the drafting of the regulations as prescribed in TEA-21.

Respondents: The respondents to the survey will be approximately 100 property owners, residents, business owners and various design/build and right-of-way contractors located in California, South Carolina, and Virginia.

Estimated Average Burden per Response: The estimated average burden per response is 30 minutes.

Estimated Total Annual Burden: The estimated total annual burden for all respondents is 50 hours.

Frequency: This is a one-time survey.

Public Comments Invited: Interested parties are invited to send comments regarding any aspect of this information collection, including, but not limited to: (1) The necessity and utility of the information collection for the proper performance of the functions of the FHWA; (2) the accuracy of the estimated burden; (3) ways to enhance the quality, utility, and clarity of the collected information; and (4) ways to minimize the collection burden without reducing the quality of the collected information. Comments submitted in response to this notice will be summarized and/or included in the request for OMB's clearance of this information collection.

Electronic Access: Internet users can access all comments received by the U.S. DOT Dockets, Room PL-401, by using the universal resource locator (URL): http://dms.dot.gov. It is available 24 hours each day, 365 days each year. Please follow the instructions online for more information and help. An electronic copy of this document may be downloaded using a modem and suitable communications software from the Government Printing Office Electronic Bulletin Board Service at telephone number 202-512-1661. Internet users may reach the Federal Register's home page at http://www.nara.gov/fedreg and the Government Printing Office's database at http://www.access.gpo.gov/nara.

Authority: The Transportation Equity Act for the 21st Century, (Pub. L. 105-178), section 1307 and 49 CFR 1.48.

Issued on: July 10, 2000.
James R. Kabel,
Chief, Management Programs and Analysis Division.

[FR Doc. 00-17867 Filed 7-13-00; 8:45 am]

BILLING CODE 4910-22-P